DEPARTMENT OF JUSTICE

Notice of Lodging of Proposed Settlement Agreement Under the Comprehensive Environmental Response, Compensation, and Liability Act

On March 12, 2014, the Department of Justice lodged a proposed Settlement Agreement with the United States Bankruptcy Court for the Southern District of New York in the bankruptcy proceeding entitled In re Eastman Kodak Company, et al., No. 12-10202 (ALG).

Under the Settlement Agreement, Eastman Kodak Company (“Kodak”) and its affiliated debtors and reorganized debtors have agreed to allow the United States Environmental Protection Agency's claims under the Comprehensive Environmental Response, Compensation, and Liability Act (“CERCLA”), 42 U.S.C. 9601-75, for unreimbursed past and future response costs in connection with the Mercury Refining Superfund Site in Colonie and Guilderland, New York, in the amount of $1,644,445, and in connection with the Fair Lawn Well Field Superfund Site in the amount of $2,116,682. The Settlement Agreement also addresses the application and allocation of a portion of a federal income tax refund owed by the United States to Kodak as a setoff against a portion of these allowed amounts.

The Settlement Agreement contains a covenant not to sue Kodak from the United States under Sections 106 and 107 of CERCLA, 42 U.S.C. 9609 and 9607.

The publication of this notice opens a period for public comment on the Settlement Agreement. Comments should be addressed to the Assistant Attorney General, Environment and Natural Resources Division, and should refer to In re Eastman Kodak Company, Bankr. Case No. 12-10202 (ALG), D.J. Ref. No. 90-11-3-10545. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period the Settlement Agreement may be examined and downloaded at this Justice Department Web site: http://www.usdoj.gov/enrd/Consent_Decrees.html. We will provide a paper copy of the Settlement Agreement upon written request and payment of reproduction costs. Please mail your request and payment to: Consent Decree Library, U.S. DOJ—ENRD, P.O. Box 7611, Washington, DC 20044-7611.

Please enclose a check or money order for $4.25 (25 cents per page reproduction cost) payable to the United States Treasury.

Robert Maher, Jr.,
Assistant Section Chief, Environmental Enforcement Section, Environment and Natural Resources Division.

[FR Doc. 2014-05887 Filed 3-17-14; 8:45 am]

BILLING CODE 4410-15-P